COMMISSION ON CIVIL RIGHTS

Agenda and Notice of Public Meeting of the Minnesota Advisory Committee

Notice is hereby given, pursuant to the provisions of the rules and regulations of the U.S. Commission on Civil Rights, that a meeting of the Minnesota Advisory Committee to the Commission will be held from 9 a.m. to 6 p.m. on Wednesday, April 24, 2002, and from 9 a.m. to 2 p.m. on Thursday, April 25, 2002, at the Embassy Suites Hotel, 425 S. 7th Street, 5th Floor, Universal Room, Minneapolis, Minnesota 55415. The purpose of the meeting is to gather information on the Minneapolis-St. Paul news media coverage of minority communities.

Persons desiring additional information, or planning a presentation to the Committee, should contact Constance M. Davis, Director of the Midwestern Regional Office, 312-353-8311 (TDD 312-353-8362). Hearing-impaired persons who will attend the meeting and require the services of a sign language interpreter should contact the Regional Office at least ten (10) working days before the scheduled date of the meeting.

The meeting will be conducted pursuant to the provisions of the rules and regulations of the Commission.

Dated at Washington, DC, March 29, 2002.
Ivy L. Davis,
Chief, Regional Programs Coordination Unit.

[FR Doc. 02-8468 Filed 4-8-02; 8:45 am]

BILLING CODE 6335-01-P